DEPARTMENT OF COMMERCE

Census Bureau

Agency Information Collection Activities; Submission to the Office of Management and Budget (OMB) for Review and Approval; Comment Request; American Community Survey and Puerto Rico Community Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the American Community Survey and Puerto Rico Community Survey, prior to the submission of the information collection request (ICR) to OMB for approval.

DATES: To ensure consideration, comments regarding this proposed information collection must be received on or before January 6, 2025.

ADDRESSES: Interested persons are invited to submit written comments by email to acso.pra@census.gov. Please reference the American Community Survey and the Puerto Rico Community Survey in the subject line of your comments. You may also submit comments, identified by Docket Number USBC-2024-0029, to the Federal e-Rulemaking Portal: http://www.regulations.gov. Click the “Comment Now!” icon, complete the required fields, and enter or attach your comments. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Nicole Butler, U.S. Census Bureau, American Community Survey Office, 301-763-3928, nicole.butler@census.gov.

SUPPLEMENTARY INFORMATION:

I. Abstract

The U.S. Census Bureau seeks an extension for the American Community Survey (ACS) and the Puerto Rico Community Survey (PRCS).

Since its founding, the Census Bureau has balanced the demands of a growing country requiring information about its people and economy with concerns for respondents' confidentiality and the time and effort it takes respondents to answer questions. Beginning with the 1810 Census, Congress updated the set of questions asked in the 1790 and 1800 Censuses by adding questions to support a range of public concerns and uses. Over the course of a century, Federal agencies requested to add questions about agriculture, industry, and commerce, as well as individuals' occupation, ancestry, marital status, disabilities, place of birth, and other topics. In 1940, the Census Bureau introduced the long-form census questionnaire in order to ask more detailed questions from a sample of the public.

In the early 1990s, the demand for current, nationally consistent data from a wide variety of users led Federal government policymakers to consider the feasibility of collecting social, economic, housing, and demographic data continuously throughout the decade. The benefits of providing current data, along with the anticipated decennial census benefits in cost savings, planning, improved census coverage, and more efficient operations, led the Census Bureau to plan the implementation of the Continuous Measurement Survey, later called the American Community Survey (ACS). After years of testing, the ACS was implemented in 2005, replacing the need for long-form data collection in future decennial censuses. The ACS is conducted throughout the United States and in Puerto Rico, where it is called the Puerto Rico Community Survey (PRCS). The ACS samples approximately 3.5 million housing unit addresses in the United States and about 36,000 in Puerto Rico each year. A housing unit is a house, an apartment, a mobile home, a group of rooms, or a single room occupied or intended for occupancy as separate living quarters. The ACS also collects detailed data from a sample of about 150,000 residents living in group quarters facilities in the United States and about 600 in Puerto Rico. Group quarters are places where people live or stay in a group living arrangement owned or managed by an entity or organization providing housing and/or services for the residents. People living in group quarters usually are not related to each other. Group quarters include college/university student housing, residential treatment centers, skilled nursing facilities, group homes, military barracks, correctional facilities, workers' group living quarters, Job Corps centers, and emergency and transitional shelters.

The ACS program provides estimates annually for the nation, all states, the District of Columbia, Puerto Rico, congressional districts, metropolitan areas, and counties and places with a population of 65,000 or more. It takes five years for smaller areas and population groups to accumulate enough data to provide reliable estimates. Every community in the nation continues to receive a detailed, statistical portrait of its social, economic, housing, and demographic characteristics each year through one-year and five-year ACS products.

The ACS collects detailed social, economic, housing, and demographic data on over 40 topics. The list of topics and questions can be found here: https://www.census.gov/acs/www/about/why-we-ask-each-question/.

II. Method of Collection

To encourage self-response in the ACS, the Census Bureau sends up to five mailings to housing unit addresses selected for the sample. The first mailing, sent to all mailable addresses in the sample, includes an invitation to participate in the ACS online and states that a paper questionnaire will be sent in a few weeks to those unable to respond online. The second mailing is a letter that reminds respondents to complete the survey online, thanks them if they have already done so, and informs them that a paper questionnaire will be sent later if we do not receive their response. In a third mailing, the paper questionnaire is sent only to those sample addresses that have not completed the online questionnaire within two weeks of receipt of the first mailing. The fourth mailing is a postcard that reminds respondents to respond and informs them that an interviewer may contact them if they do not complete the survey. A fifth mailing is sent to respondents who have not completed the survey within five weeks. This letter provides a due date and reminds the respondents to return their questionnaires to be removed from future contact. Some households are also contacted by email. If a household starts the online survey and gives an email but doesn't finish the survey, the household will receive an email reminder to complete the survey.

If the Census Bureau does not receive a response from an address in the self-response data collection phase, the address may be selected for an in-person or phone interview by a Census Bureau field representative. This is the nonresponse follow-up data collection operation known as the Computer-Assisted Personal Interview (CAPI) phase. The CAPI phase of data collection lasts for one month. Only a portion of nonresponding addresses, after the self-response phase, are sampled in CAPI. While this phase of data collection focuses on personal interviews, respondents still have the option to respond online or call the Telephone Questionnaire Assistance line and complete the survey over the telephone.

At the beginning of the CAPI month a sixth mailing is sent to all mailable addresses in the CAPI sample. This letter urges respondents to complete the survey online to avoid an in-person interview. If a household responds online or by phone, they are removed from the workload and are no longer contacted. If they do not respond, a Census Bureau field representative attempts to contact them to obtain a response via a computer-assisted interview.

Unlike the ACS, the PRCS does not have an internet response option. As a result, a PRCS mailings make no references to an internet response option. The Census Bureau sends up to five mailings to a Puerto Rico address selected to be in the sample. The first mailing includes a prenotice letter. The second and fourth mailings include the paper survey. The third and fifth mailings are postcards that serve as a reminder to respond to the survey. If the Puerto Rico address is deemed unmailable because the address is incomplete or directs mail only to a post office box, the address may be selected for an interview in person or by telephone.

The Census Bureau employs a separate strategy to collect data from group quarters. The Census Bureau collects data for sampled people in group quarters through personal interviews, telephone interviews, and internet responses. The Census Bureau will obtain the facility information by conducting a telephone or personal visit interview with a group quarter contact. During this interview, the Census Bureau obtains a roster of residents and randomly selects them for person-level interviews. The facility can also upload their facility roster to the Census Bureau online listing application. During the person-level phase, a field representative uses a computer-assisted personal interview automated instrument to collect detailed information for each sampled resident. The field representative also has the option to distribute a bilingual (English/Spanish) questionnaire to residents for self-response if they are unable to complete a computer-assisted personal interview. Respondents in some group quarters also have the option to self-respond to the survey online.

III. Data

OMB Control Number: 0607-0810.

Form Number(s): ACS-1, ACS-1(SP), ACS-1(PR), ACS-1(PR)SP, ACS-1(GQ), ACS-1(GQ)(PR), ACS Housing Unit internet electronic instrument (no form number), ACS nonresponse follow up CAPI electronic instrument (no form number), ACS Failed Edit Follow up CATI electronic instrument (no form number), ACS Telephone Questionnaire Assistance CATI electronic instrument (no form number). ACS Group Quarters internet listing instrument (no form number), ACS Group Quarters Facility Questionnaire CAPI GQFQ electronic instrument, ACS Group Quarters internet electronic instrument (no form number), ACS Group Quarters Resident CAPI electronic instrument (no form number). ACS Reinterview CATI/CAPI HU RI electronic instrument (no form number), ACS Reinterview CATI/CAPI GQ RI electronic instrument (no form number).

Type of Review: Regular submission, Request for an extension

Affected Public: Individuals or households.

Estimated Number of Respondents: 3,576,000 for household respondents; 20,100 for contacts in GQ; 150,600 people in GQ; 22,875 households for reinterview; and 1,422 GQ contacts for reinterview. The total estimated number of respondents is 3,770,997.

Estimated Time Per Response: 40 minutes for the average household questionnaire; 15 minutes for a GQ facility questionnaire; 25 minutes for a GQ person questionnaire; 10 minutes for a household reinterview; 10 minutes for a GQ-level reinterview.

Estimated Total Annual Burden Hours: 2,384,000 for household respondents; 5,025 for contacts in GQ; 62,750 for GQ residents 3,813 households for reinterview; and 237 GQ contacts for reinterview. The estimate is an annual average of 2,455,825 burden hours.

Table 1—Annual ACS and PRCS Respondent and Burden Hour Estimates
Data collection operation | Forms or instrument used in data collection | Annual estimated number of respondents | Estimated minutes per respondent by data collection activity | Annual estimated burden hours
I. ACS Household Questionnaire, Online Survey, Telephone, and Personal Visit | ACS-1, ACS 1(SP), ACS-1PR, ACS-1PR(SP), Online Survey, Telephone, CAPI | 3,576,000 | 40 | 2,384,000
II. ACS GQ Facility Questionnaire CAPI—Telephone and Personal Visit | CAPI GQFQ | 20,100 | 15 | 5,025
III. ACS GQ CAPI Personal Interview or Telephone, Online Survey and Paper Self-response | CAPI, ACS-1(GQ), ACS-1(GQ)(PR) | 150,600 | 25 | 62,750
IV. ACS Household Reinterview—CATI/CAPI | ACS HU-RI | 22,875 | 10 | 3,813
V. ACS GQ-level Reinterview—CATI/CAPI | ACS GQ-RI | 1,422 | 10 | 237
Totals |  | 3,770,997 | N/A | 2,455,825

Estimated Total Annual Cost to Public: $0. (This is not the cost of respondents' time, but the indirect costs respondents may incur for such things as purchases of specialized software or hardware needed to report, or expenditures for accounting or records maintenance services required specifically by the collection.)

Respondent's Obligation: Mandatory.

Legal Authority: 13 U.S.C. 141, 193, 221, and 223.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-25655 Filed 11-4-24; 8:45 am]

BILLING CODE 3510-07-P